DEPARTMENT OF THE INTERIOR

National Park Service

[NPS-WASO-NAGPRA-NPS0035225; PPWOCRADN0-PCU00RP14.R50000]

Notice of Inventory Completion: U.S. Army Corps of Engineers, Omaha District, Omaha, NE, and the University of Tennessee, Department of Anthropology, Knoxville, TN

AGENCY: National Park Service, Interior.

ACTION: Notice.

SUMMARY: In accordance with the Native American Graves Protection and Repatriation Act (NAGPRA), the U.S. Army Corps of Engineers, Omaha District and the University of Tennessee, Department of Anthropology (UTK) have completed an inventory of human remains and associated funerary objects and have determined that there is a cultural affiliation between the human remains and associated funerary objects and Indian Tribes or Native Hawaiian organizations in this notice. The human remains and associated funerary objects were removed from Sioux County, ND and Buffalo, Campbell, Corson, Dewey, Gregory, Hughes, Lyman, Potter, Sully, Stanley, and Walworth Counties, SD.

DATES: Repatriation of the human remains and associated funerary objects in this notice may occur on or after March 3, 2023.

ADDRESSES: Ms. Sandra Barnum, U.S. Army Corps of Engineers, Omaha District, ATTN: CENWO-PMA-C, 1616 Capitol Avenue, Omaha, NE 68102, telephone (402) 995-2674, email sandra.v.barnum@usace.army.mil and Dr. Robert Hinde, University of Tennessee, Office of the Provost, 527 Andy Holt Tower, Knoxville, TN 37996-0152, telephone (865) 974-2445, email rhinde@utk.edu and vpaa@utk.edu.

SUPPLEMENTARY INFORMATION: This notice is published as part of the National Park Service's administrative responsibilities under NAGPRA. The determinations in this notice are the sole responsibility of the U.S. Army Corps of Engineers, Omaha District. The National Park Service is not responsible for the determinations in this notice. Additional information on the determinations in this notice, including the results of consultation, can be found in the inventory or related records held by the U.S. Army Corps of Engineers, Omaha District.

Description

Human remains representing, at minimum, two individuals were removed from Sioux County, ND. In 1947, the University of North Dakota and the State Historical Society of North Dakota co-sponsored archeological work in the upper limits of the Oahe Reservoir, a U.S. Army Corps of Engineers reservoir in North Dakota. Test excavations at the Paul Brave site, also known as the Fort Yates site (32SI4), were included in the work done during this project. The site was investigated a second time in 1955, under the sponsorship of the State Historical Society of North Dakota. The human remains and associated funerary objects removed from the Paul Brave site are currently housed at the University of Tennessee, Knoxville. No known individuals were identified. The one associated funerary object is one lot of burial soil.

Human remains representing, at minimum, one individual were removed from Buffalo County, SD. The human remains were removed from a cache pit at the Twin or Lillian All Arounds Village, 39BF206, in 1986 by the Archeology Lab-Augustana College personnel during improvements to the Jennessee Road. The human remains were initially curated at the South Dakota State Historical Society-Archaeological Research Center (SARC) but are now located at the University of Tennessee, Knoxville (UTK). No known individual was identified. No associated funerary objects are present.

Human remains representing, at minimum, one individual were removed from Campbell County, SD. In 1979, human remains belonging to two individuals were found eroding from a cutbank at site 39CA117, the Stranded Squirrel site. Upon discovery, the human remains were removed from the site by Robert Pepperl and transferred to the University of Nebraska, Lincoln. In 1986, they were transferred to SARC, and in 1987 they went to UTK to be inventoried. While UTK returned most of the human remains to SARC that same year, human remains representing one individual were left at UTK. The site was a multi-component site. Ceramic fragments found at the site establish occupation between 1500 CE and 1675 CE. No known individual was identified. No associated funerary objects are present.

Human remains representing, at minimum, one individual were removed from site 39WW89 in Walworth County, SD. They were housed at SARC until 1987, when they were transferred to UTK for examination. The human remains of this individual and one lot of burial soil were retained by UTK. Site 39WW89 consists of both Middle Missouri (1000-1500 CE) and Extended Coalescent variants (1500-1675 CE). No known individual was identified. The one associated funerary object is one lot of burial soil.

Human remains representing, at minimum, one individual were removed from Campbell County, SD. The human remains were removed on June 16, 1967, by surface collection at 39CA201, the Locke Creek site. William Bass most likely took the human remains of this individual to UTK when he began working in the Department of Anthropology in 1971. The site dates to ~1500-1675 CE. No known individual was identified. The five associated funerary objects are one lot faunal bone, one lot of ceramics, one lot lithics, one lot shell, and one lot botanicals.

Human remains representing, at minimum, one individual were removed from Corson County, SD. The human remains were removed from the Jake White Bull site (39CO6) and housed at SARC before being transferred to the Department of Anthropology at UTK for inventory sometime between 1987 and 1988. The human remains of this individual and an associated soil sample were retained by UTK. The site dates to ~1217-1297 CE. No known individual was identified. The one associated funerary object is one lot of soil.

Human remains representing, at minimum, two individuals were removed from Corson County, SD. The two individuals were likely part of a commingled burial removed from the Potts Village site (39CO19) in the late 1980s and subsequently stored at South Dakota's State Archaeological Research Center (SARC). In 1988, these human remains were transferred by SARC to UTK for inventory and were retained by UTK. The site is a fortified earth lodge village dating to the Extended Coalescent Period, between 1550 CE and 1675 CE. No known individuals were identified. The 13 associated funerary objects are two lots of burial soil, one lot of lithics, two lots of miscellaneous stone, one lot of ceramics, one lot of botanicals, one lot of worked bone, and five lots of faunal remains.

Human remains representing, at minimum, one individual were removed from Corson County, SD. The human remains were removed from 39CO34, the Red Horse Hawk site, by Timothy Nowak, a Corps of Engineers South Dakota field archeologist, after they reportedly were eroding from the shore. The site was a fortified earth lodge village dating to 1650-1886 CE. This individual was recovered. The human remains of this individual were among a group of human remains from the W. H. Over Museum collection that was transferred to UTK for examination prior to reinterment in 1985. That examination was led by Douglas Owsley, then at LSU, and William Bass of UTK. The human remains of this individual were not returned after examination. No known individual was identified. Six lots of objects salvaged from the site between 1968 and 1970 were housed at UTK. The six associated funerary objects are one lot of ceramics, one lot of lithics, one lot of worked bone, one lot of faunal remains, one lot of shell, and one lot of metal.

Human remains representing, at minimum, five individuals were removed from site 39CO213, the Travis I site, in Corson County, SD. The human remains were housed at SARC before being transferred to UTK for inventory sometime between 1987 and 1988. The human remains of these individuals were retained by UTK. The Travis I site is an earth lodge village located on the left bank of the Missouri River. Radiocarbon dates from the site place occupation between 1069 CE and 1387 CE. No known individuals were identified. The two associated funerary objects are two lots of soil.

Human remains representing, at minimum, two individuals were removed from Dewey County, SD. The human remains were removed from the Molstad Village site (39DW234) in the summer of 1969 by William Bass (Bass was at the University of Kansas at the time). This burial was found eroding from a riverbank 250-300 yards southeast of Molstad Village. The human remains were likely housed at KU until Bass transferred them to UTK in 1971, when he began working in the Department of Anthropology. The site was a fortified earth lodge site whose occupation is thought to date to the mid-1500s CE, or the Extended Coalescent Phase of the Middle Missouri taxonomy. No known individuals were identified. The two associated funerary objects are one lot of lithics and one lot of bone.

Human remains representing, at minimum, one individual were removed from the Scalp Creek site, 39GR1, in Gregory County, SD. These human remains were donated by a South Dakota game warden after having washed out of an area situated about 400.0 feet WNW of the site of earlier excavations conducted in 1941 and 1951. This burial was among a group of Smithsonian Institution River Basin Survey burials the State Historical Society of North Dakota sent to William Bass for examination sometime prior to 1971 (while Bass was still at KU). The site was a stockaded village. Scalp Creek consists of both Late Woodland (800-1200 CE) and Extended Coalescent (1500-1675 CE) components. No known individual was identified. No associated funerary objects are present.

Human remains representing, at minimum, one individual were removed from the McClure site (39HU7) in Hughes County, SD. (The human remains were marked “MacClure site,” but McClure is considered the more likely identification.) These human remains were transferred to UTK, most likely through William Bass (either he transferred them from KU to UTK or he received them after he moved to UTK in 1971). Occupation at the McClure site was considered brief, between approximately 1690 and 1700 CE. No known individual was identified. No associated funerary objects are present.

Human remains representing, at minimum, eight individuals were removed from Hughes County, SD. In 1931, Alfred Bowers removed eleven burials from a previously looted mound at the Bleached Bone site (39HU48) during investigations sponsored by the Logan Museum. Additional investigations were conducted by the Missouri River Basin Project (MRBP) in 1962, during which field crew 10, directed by William Bass, removed an additional 13 burials. Burial and cultural materials obtained by MRBP crews were transferred to the University of Nebraska, Lincoln (UNL) by the end of 1962. The site included stone circles, mounds, and other configurations. Woodland Period (~500 BCE-1000 CE) pottery was reportedly found during the 1962 season. In addition, the presence of a metallic projectile point suggested possible occupation during the Historic Period. No known individuals were identified. No associated funerary objects are present.

Human remains representing, at minimum, one individual were removed from Lyman County, SD. Oscar L. Mallory removed the human remains from 39LM34 in 1964 after they were discovered eroding from the riverbank following flooding of the Fort Randall Reservoir. These human remains were housed at the Midwest Archaeological Center in Lincoln, NE, until they were transferred to SARC in 1986, and then to UTK for analysis in 1987. The human remains of this individual were retained by the UTK Department of Anthropology. Based on the types of objects collected from the site, occupation was dated to the Post-Contact Coalescent variant, between 1675 and 1780 CE. No known individual was identified. No associated funerary objects are present.

Human remains representing, at minimum, one individual were removed from the Iron Nation Village site (39LM222) in Lyman County, SD. In 1967, Donald J. Lehmer, with the Smithsonian River Basin Surveys Project, made a visit to the site following a report that the skeletal remains of one individual had been excavated. These human remains were stored at SARC in Rapid City before being transferred to UTK for inventory sometime between 1987 and 1988. The human remains of this individual were retained by UTK. The site was a large, fortified earth lodge village belonging to the Extended Coalescent period (~1500-1675 CE). No known individuals were identified. No associated funerary objects are present.

Human remains representing, at minimum, two individuals were removed from Lyman County, SD. In 1961, the human remains were removed from the Pretty Head site (39LM232) by W. W. Caldwell. William Bass likely took them to UTK when he began working in the Department of Anthropology. The Pretty Head site was a fortified village on the west bank of the Missouri River. Occupation at the site was assigned to two phases—sometime between 1100 CE and 1300 CE, during the Grand Detour Phase of the Middle Missouri Tradition, and from 903 CE to 1185 CE, based on a 2-sigma probability range of values. No known individuals were identified. The five associated funerary objects are five lots of faunal remains.

Human remains representing, at minimum, five individuals were removed from Potter County, SD. In the fall of 1962, Richard Weeks of Pierre, SD, excavated and removed the human remains from the Hosterman site (39PO7) after the burials were discovered eroding from the eastern side of the Oahe Reservoir. That same year, Weeks shipped the human remains to William Bass at KU. Bass, in turn, took the human remains to UTK when he began working in the Department of Anthropology in 1971. The village site had a stockade and a fortification ditch and is dated to ~1643 CE, with a 2-sigma probability range of dates from 1450 to 1676 CE. No known individuals were identified. The two associated funerary objects are two lots of faunal remains.

Human remains representing, at minimum, 109 individuals were removed from Sully County, SD. The human remains were removed from 39SL4, the Sully site, by William Bass and crews from the Smithsonian Institution River Surveys (in 1957, 1958, and 1961) and KU (in 1962). Following excavation, the burial remains were transferred to the Smithsonian Institution and examined by Bass, who served as physical anthropologist for the RBS. The human remains of these individuals were obtained by Bass either while he was at the Smithsonian or later, when he was at KU. Bass transferred the human remains to UTK when he began working in the Department of Anthropology in 1971. The Sully site was one of the largest identified Arikara villages and contained four distinct cemeteries. The site dates to 1477-1678 CE. No known individuals were identified. The two associated funerary objects are two lots of faunal remains.

Human remains representing, at minimum, two individuals were removed from the H.P. Thomas site (39ST12) in Stanley County, SD. These human remains could have been removed during investigations in the 1940s and 1950s. Test excavations were undertaken at the site in the summer of 1948 by crews with the Missouri River Basins Survey Project, with subsequent investigations performed by Richard P. Wheeler in 1958. These human remains were sent to William Bass at KU for examination. The only information provided with the transfer was that they were miscellaneous bones from a cache found in a house wall. Bass likely took the human remains of these individuals to UTK when he began working in the Department of Anthropology in 1971. Artifacts recovered from the site date between 950 CE and 1850 CE. No known individuals were identified. The one associated funerary object is one lot of faunal remains.

Human remains representing, at minimum, one individual were removed from Stanley County, SD. The human remains were removed from the Buffalo Pasture Cemetery site (39ST216), likely in 1955 by Vern Willaford. Burials of several individuals were uncovered during fill dirt removal in 1955 and given by Vern Willaford (in charge of the earth moving activity) to Richard P. Wheeler of the Smithsonian Institution's Missouri River Basin Project (RBS). In 1957, William Bass examined the burials from 39ST216, and the human remains of this individual likely belonged to one of the disturbed burials removed by Willaford of the RBS in 1955. Although there is no record concerning a transfer of these human remains to or from UTK, the presence of this individual in the UTK Department of Anthropology collections is likely attributable to Bass. The site was a medium-sized fortified village believed to be dated to the 18th century. No known individual was identified. No associated funerary objects are present.

Human remains representing, at minimum, two individuals were removed from Walworth County, SD. Between 1979 and 1982, the University of Nebraska, Lincoln, and Augustana College of Sioux Falls, SD, removed human remains from 39WW89, an unnamed site. By 1984, all recovered individuals were stored at SARC. In 1987, they were transferred to UTK for examination. The human remains of these individuals were retained by UTK. The site had considerable time depth (1400-1560 CE) consisting of both Middle Missouri and Extended Coalescent variants of the Plains Village Tradition. No known individuals were identified. No associated funerary objects are present.

Human remains representing, at minimum, two individuals were removed from Walworth County, SD. Between 1970 and 1972. the human remains were removed from 39WW203, the Walth Bay site. The principal investigator was W. Raymond Wood, and the excavations were directed by Carl R. Falk and Stanley A. Ahler under contract to the National Park Service. Sometime after 1970, these human remains were transferred to William Bass. No known individuals were identified. No associated funerary objects are present.

Cultural affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and expert opinion.

Determinations

Pursuant to NAGPRA and its implementing regulations, and after consultation with the appropriate Indian Tribes and Native Hawaiian organizations, the U.S. Army Corps of Engineers, Omaha District has determined that:

• The human remains described in this notice represent the physical remains of 152 individuals of Native American ancestry.

• The 41 objects described in this notice are reasonably believed to have been placed with or near individual human remains at the time of death or later as part of the death rite or ceremony.

• There is a relationship of shared group identity that can be reasonably traced between the human remains and associated funerary objects described in this notice and the Three Affiliated Tribes of the Fort Berthold Reservation, North Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 3, 2023. If competing requests for repatriation are received, the U.S. Army Corps of Engineers, Omaha District must determine the most appropriate requestor prior to repatriation. Requests for joint repatriation of the human remains and associated funerary objects are considered a single request and not competing requests. The U.S. Army Corps of Engineers, Omaha District is responsible for sending a copy of this notice to the Indian Tribe identified in this notice.

Authority: Native American Graves Protection and Repatriation Act, 25 U.S.C. 3003, and the implementing regulations, 43 CFR 10.9, § 10.10, and § 10.14.

Dated: January 25, 2023.
Melanie O'Brien,
Manager, National NAGPRA Program.

[FR Doc. 2023-02066 Filed 1-31-23; 8:45 am]

BILLING CODE 4312-52-P